FEDERAL COMMUNICATIONS COMMISSION

47 CFR Part 73

[DA 03-4038; MB Docket No. 03-72, RM-10674; MB Docket No. 03-73, RM-10675; MB Docket No. 03-75, RM-10677.]

Radio Broadcasting Services; Leedey, Oklahoma; Memphis, Texas; and Silverton, Texas

AGENCY: Federal Communications Commission.

ACTION: Final rule.

SUMMARY: This document grants three proposals that allot new FM channels to Silverton, Texas; Leedey, Oklahoma; and Memphis, Texas. The Audio Division, at the request of Maurice Salsa, allots Channel 252A at Silverton, Texas, as the community's first local aural transmission service. See 68 FR 15143, March 28, 2003. Channel 252A can be allotted to Silverton, Texas, in compliance with the Commission's minimum distance separation requirements with a site restriction of 8.2 km (5.1 miles) east of Silverton. The coordinates for Channel 252A at Silverton, Texas, are 34-28-15 North Latitude and 101-13-09 West Longitude. A filing window for Channel 252A at Silverton, Texas, will not be opened at this time. Instead, the issue of opening this allotment for auction will be addressed by the Commission in a subsequent Order. See Supplementary Information infra.

DATES: Effective February 6, 2004.

FOR FURTHER INFORMATION CONTACT: Deborah Dupont, Media Bureau, (202) 418-2180.

SUPPLEMENTARY INFORMATION: This is a synopsis of the Commission's Report and Order, MB Docket Nos. 03-72, 03-73, and 03-75, adopted December 18, 2003, and released December 23, 2003. The full text of this Commission decision is available for inspection and copying during normal business hours in the FCC Information Center, Portals II, 445 12th Street, SW., Room CY-A257, Washington, DC 20554. The complete text of this decision may also be purchased from the Commission's duplicating contractor, Qualex International, Portals II, 445 12th Street, SW., Room CY-B402, Washington, DC, 20554, (202) 863-2893, facsimile (202) 863-2898, or via e-mail qualexint@aol.com.

The Audio Division further allots, at the request of Robert Fabian, Channel 297A at Leedey, Oklahoma, as the community's first local aural transmission FM service. See 68 FR 15143, March 28, 2003. Channel 297A can be allotted to Leedey, Oklahoma, in compliance with the Commission's minimum distance separation requirements with a site restriction of 9.4 km (5.8 miles) northwest of Leedey. The coordinates for Channel 297A at Leedey, Oklahoma, are 35-56-36 North Latitude and 99-23-48 West Longitude. A filing window for Channel 297A at Leedey, Oklahoma, will not be opened at this time. Instead, the issue of opening this allotment for auction will be addressed by the Commission in a subsequent Order.

The Audio Division further allots, at the request of Maurice Salsa, Channel 283A at Memphis, Texas, as the community's third local aural transmission service. See 68 FR 15143, March 28, 2003. Channel 283A can be allotted to Memphis, Texas, in compliance with the Commission's minimum distance separation requirements with a site restriction of 8.7 km (5.4 miles) north of Memphis. The coordinates for Channel 283A at Memphis, Texas, are 34-41-14 North Latitude and 100-27-03 West Longitude. A filing window for Channel 283A at Memphis, Texas, will not be opened at this time. Instead, the issue of opening this allotment for auction will be addressed by the Commission in a subsequent Order.

List of Subjects in 47 CFR part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Oklahoma, is amended by adding Leedey, Channel 297A.

3. Section 73.202(b), the Table of FM Allotments under Texas, is amended by adding Channel 283A at Memphis, and Silverton, Channel 252A.

Federal Communications Commission.
John A. Karousos,
Assistant Chief, Audio Division, Media Bureau.

[FR Doc. 04-274 Filed 1-6-04; 8:45 am]

BILLING CODE 6712-01-P